DEPARTMENT OF LABOR

Employment and Training Administration

Comment Request for Information Collection for the SCSEP Data Collection System, OMB Control No. 1205-0040, Extension With Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Senior Community Service Employment Program (SCSEP), expiring October 31, 2010. Changes are due to the following: (1) In December of 2009, SCSEP received additional funds authorized by the Department of Labor Appropriations Act (Pub. L. 111-117, section D) signed December 17, 2009, thus increasing the anticipated number of SCSEP participants and, therefore, increasing the overall record-keeping burden. (2) In addition, information collection forms have been modified as necessitated by the reauthorization of the SCSEP legislation (2006 Amendments to the Older Americans Act, Pub. L. 109-365) and the Jobs for Veterans Act of 2002 (Pub. L. 07-288); changes in overall burden for some forms based on actual usage statistics; and the requirement to publish changes to the Internet-based SCSEP Performance and Results QPR (SPARQ) system that go into effect on July 1, 2010.

A copy of the proposed information collection request (ICR) can be obtained by contacting the office listed below in the addressee section of this notice.

DATES: Written comments must be submitted to the office listed in the addressee's section below on or before July 12, 2010.

ADDRESSES: Submit written comments to Alexandra Kielty, Room S-4203 Employment and Training Administration, 200 Constitution Avenue, NW., Washington, DC 20210. Telephone number: 202-693-3730 (this is not a toll-free number). Fax: 202-693-3587. E-mail: kielty.alexandra@dol.gov.

SUPPLEMENTARY INFORMATION:

I. Background

Originally authorized by the Older Americans Act of 1965, the Senior Community Service Employment Program (SCSEP) is funded for approximately $759 million for PY 2010 and will provide over 78,000 positions in which nearly 120,000 low-income persons aged 55 or older will be placed in community service employment. At current placement rates, this should allow about 20,000 people to be exited from the program with the ultimate goal of unsubsidized placement in PY 2010.

To ensure that the Senior Community Service Employment Program is properly administered, and to implement the performance measures and sanctions authorized by the 2006 Amendments to the OAA (OAA-2006) and the Jobs for Veterans Act of 2002, it is necessary to modify the existing data collection forms. In addition, a collection of information is required under OMB Memorandum M-02-06, which has been adopted by the Department of Labor (the Department). This requirement necessitates a revision of data collection forms (listed below) and revisions to the overall data collection burden. The legal authority for the collection of additional information may be found at sections 503, 508, 513, and 515 of the OAA-2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revisions.

Agency: Employment and Training Administration.

Title: SCSEP Performance Measurement System.

OMB Number: 1205-0040.

Agency Form Numbers: ETA-9120, ETA-9121, ETA-9122, ETA-9123, ETA-9124A, ETA-9124B, ETA-9124C, ETA-8705, and ETA-9130.

Recordkeeping: N/A.

Affected Public: Not-for-profit institutions; state, local and tribal governments; business or other for-profit organizations; the Federal government; and individuals.

Forms: Participant Data Form—ETA-9120; Community Service Assignment Form—ETA-9121; Unsubsidized Employment Form—ETA-9122; Exit Form—ETA-9123; Equitable Distribution Report Form—ETA-8705; Participant Customer Satisfaction—ETA-9124A; Host Agency Customer Satisfaction—ETA-9124B; Employer Customer Satisfaction—ETA-9124C; Quarterly Financial Report—ETA-9130.

Total Respondents: 33,621.

Frequency: Annual and/or Quarterly.

Average Time per Response: 8 minutes.

Total Responses: 324,621.

Estimated Total Burden Hours: 47,318.

Total Burden Cost (operating/maintaining): $83,434.

Comments submitted in response to this comment request will be summarized and/or included in the request for Office of Management and Budget approval of the information collection request; they will also become a matter of public record.

Signed at Washington, DC, this 6th day of May 2010.
Jane Oates,
Assistant Secretary, Employment and Training Administration.

[FR Doc. 2010-11389 Filed 5-12-10; 8:45 am]

BILLING CODE 4510-FN-P